DEPARTMENT OF DEFENSE

Department of the Navy

[Docket ID: USN-2013-0032]

Proposed Collection; Comment Request

AGENCY: Department of the Navy, DoD.

ACTION: Notice.

In compliance with Section 3506(c)(2)(A) of the Paperwork Reduction Act of 1995, the Department of the Navy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 21, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Commandant of Midshipmen, Operations Office, United States Naval Academy, 101 Buchanan Road, Annapolis, MD 21402-5101, or contact Commandant's Operations Officer, telephone (410) 293-7125.

Title; Associated Form; and OMB Number: United States Naval Academy Sponsor Application contained within the USNA Admission's Web site; OMB Control Number 0703-0054.

Needs and Uses: This collection of information is necessary to determine the eligibility and overall compatibility between sponsor applicants and Fourth Class Midshipmen at the United States Naval Academy. An analysis of the information collection is made by the Sponsor Program Director during the process in order to best match sponsors with Midshipmen.

Affected Public: Individuals or households; Federal Government.

Annual Burden Hours: 800.

Number of Respondents: 800.

Responses per Respondent: 1.

Average Burden per Response: 1 hour.

Frequency: Annually.

SUPPLEMENTARY INFORMATION:

Summary of Information Collection

The sponsor program matches first year students with families in the community for a semblance of home away from the rigors of the academy. The application is used to evaluate and match sponsor families with incoming midshipmen of similar interests.

Dated: August 15, 2013.
Aaron Siegel,
Alternate OSD Federal Register Liaison Officer, Department of Defense.

[FR Doc. 2013-20323 Filed 8-20-13; 8:45 am]

BILLING CODE 5001-06-P